DEPARTMENT OF COMMERCE

National Oceanic and Atmospheric Administration

[RIN 0648-XA17]

Endangered and Threatened Species; Take of Anadromous Fish

AGENCY: National Marine Fisheries Service (NMFS), National Oceanic and Atmospheric Administration, Commerce.

ACTION: Notice; issuance of permit.

SUMMARY: This notice advises the public that an incidental take permit has been issued to the Grants Pass Irrigation District for the continued operation and maintenance of Savage Rapids Dam at Grants Pass, Oregon, and that the decision documents are available upon request.

DATES: Permit 1607 was issued on May 7, 2007, subject to certain conditions set forth therein, and took effect on May 7, 2007. The permit expires on November 1, 2009.

ADDRESSES: Requests for copies of the decision documents or any of the other associated documents should be directed to the Habitat Conservation Division, NOAA's National Marine Fisheries Service, 2900 NW Stewart Parkway, Roseburg, OR 97470. The documents are also available on the Internet at www.nwr.noaa.gov.

FOR FURTHER INFORMATION CONTACT: Ken Phippen, at phone number: (541) 957-3385, e-mail: ken.phippen@noaa.gov.

SUPPLEMENTARY INFORMATION: This notice is relevant to the following species:

Coho salmon (Oncorhynchus kisutch): threatened Southern Oregon and Northern California Coasts evolutionarily significant unit.

Dated: May 10, 2007.
Angela Somma,
Chief, Endangered Species Division, Office of Protected Resources, National Marine Fisheries Service.

[FR Doc. E7-9423 Filed 5-15-07; 8:45 am]

BILLING CODE 3510-22-S